DEPARTMENT OF THE INTERIOR

National Park Service

[NPS-WASO-NAGPRA-17697; PPWOCRADN0-PCU00RP14.R50000]

Notice of Intent To Repatriate Cultural Items: Logan Museum of Anthropology, Beloit College, Beloit, WI

AGENCY: National Park Service, Interior.

ACTION: Notice.

SUMMARY: The Logan Museum of Anthropology, in consultation with the appropriate Indian tribes or Native Hawaiian organizations, has determined that the cultural item listed in this notice meets the definition of sacred object and object of cultural patrimony. Lineal descendants or representatives of any Indian tribe or Native Hawaiian organization not identified in this notice that wish to claim this cultural item should submit a written request to the Logan Museum of Anthropology. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Logan Museum of Anthropology at the address in this notice by May 1, 2015.

ADDRESSES: William Green, Director, Logan Museum of Anthropology, Beloit College, 700 College St., Beloit, WI 53511, telephone (608) 363-2119, email greenb@beloit.edu.

SUPPLEMENTARY INFORMATION: Notice is here given in accordance with the Native American Graves Protection and Repatriation Act (NAGPRA), 25 U.S.C. 3005, of the intent to repatriate a cultural item under the control of the Logan Museum of Anthropology that meets the definition of sacred object and object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 2006, the estate of Rita Gaples donated a mask (catalog number RG 321) to the Logan Museum of Anthropology. Associated records indicate Ms. Gaples acquired the mask from Shango Galleries in Dallas, TX in 2005. The prior owner was Ronald Slowinski. It is not known when, how, or from whom Mr. Slowinski acquired the mask. Shango Gallery records identify the mask as a Jemez Apa' Kachina mask and indicate a date of manufacture of ca. 1930, though the records contain no rationale for this date.

The mask is cylindrical in shape, with a flat base and two protruding ears. The mask is made of leather, stitched with cotton thread. On each ear, a rectangular piece of abalone shell is attached to the front surface by a leather thong through a perforation in the ear. Two sticks are secured with leather lacing to the top of the mask. The overall dimensions of the mask with the sticks are 16 inches in height and 19 inches in width. The front of the mask has perforations for the eyes and the mouth; the mouth is surrounded on the inside by pin-hole size perforations. The front of the mask is painted green, thinning or fading at the top. The eyes are surrounded by black side-facing triangles and the mouth by a small, circular rim of black paint. One red and one yellow band, both bordered in black, extend along the base of the mask and continue along the side and back toward the face, just below the eyes. The base of the mask shows wear from material that was probably attached as a collar. Four sets of leather ties are attached along the base and two long leather ties are attached from the inside. Stitching, covered by paint, extends vertically through the center of the back of the mask. The back of the mask is painted white, superimposed by images of three corn plants painted in black. The stem of each plant forms a toothed rake. The top of the mask is unpainted leather, and the stitching that attaches the top to the cylinder is not painted over, indicating the top was attached to the mask after the cylinder was built and painted. The top has pencil marks on the edges, which indicate where the pattern was drawn before the piece was cut. A letter “R” and the letters “RC” are painted in red on the interior of the top. The paint overall is matte in finish, flaky, and abrades easily. Brush marks are visible except in the green portion of the face, which appears to have been sprayed on. The corn images appear to have been painted over a previous layer of paint. Some of the previous layer is visible and apparently was also painted with corn stalks. The ears appear to have many layers of paint as evident by flaking red paint and green paint underneath.

Both long sticks fastened to the top of the mask with leather ties are carved at one end into three segments; each segment is painted yellow, red, or brown. A small remnant of feather down is present on the leather. Also on top of the mask is an open appendage with a finial made of corn husk wrapped with cotton thread embedded with remnants of green pigment.

The mask is incomplete in several respects, as it lacks the collar, top band, painted top, and feathers of Jemez Apa' masks. However, masks were repeatedly renewed, and the “missing” or unfinished features of this mask may indicate it was collected while undergoing or awaiting renovation.

Consultation with the Pueblo of Jemez included a visit from Jemez representatives in 2010. Consultation and published sources demonstrate that the mask is culturally affiliated with the Pueblo of Jemez. Jemez Kachina masks play an active role in the religious life of the community. They are used in religious practice and are owned and cared for by religious societies rather than individuals. They are considered sacred and living persons—friends and family members—rather than objects. These masks cannot be alienated, appropriated, or conveyed by any individual regardless of whether or not the individual is a member of the Pueblo of Jemez.

Determinations Made by the Logan Museum of Anthropology

Officials of the Logan Museum of Anthropology have determined that:

• Pursuant to 25 U.S.C. 3001(3)(C), the 1 cultural item described above is a specific ceremonial object needed by traditional Native American religious leaders for the practice of traditional Native American religions by their present-day adherents.

• Pursuant to 25 U.S.C. 3001(3)(D), the 1 cultural item described above has ongoing historical, traditional, or cultural importance central to the Native American group or culture itself, rather than property owned by an individual.

• Pursuant to 25 U.S.C. 3001(2), there is a relationship of shared group identity that can be reasonably traced between the sacred object and object of cultural patrimony and the Pueblo of Jemez, New Mexico.

Additional Requestors and Disposition

Lineal descendants or representatives of any Indian tribe or Native Hawaiian organization not identified in this notice that wish to claim this cultural item should submit a written request with information in support of the claim to William Green, Director, Logan Museum of Anthropology, Beloit College, 700 College St., Beloit, WI 53511, telephone (608) 363-2119, email greenb@beloit.edu, by May 1, 2015. After that date, if no additional claimants have come forward, transfer of control of the sacred object and object of cultural patrimony to the Pueblo of Jemez, New Mexico, may proceed.

The Logan Museum of Anthropology is responsible for notifying the Pueblo of Jemez, New Mexico, that this notice has been published.

Dated: February 13, 2015.
Melanie O'Brien,
Acting Manager, National NAGPRA Program.

[FR Doc. 2015-07396 Filed 3-31-15; 8:45 am]

BILLING CODE 4312-50-P